ENVIRONMENTAL PROTECTION AGENCY

[FRL-8264-6]

Fort Ord Superfund Site; Proposed Notice of Administrative Order on Consent for Cleanup of Portions of the Former Fort Ord

AGENCY: Environmental Protection Agency (EPA).

ACTION: Notice; request for public comment.

SUMMARY: Notice is hereby given that a proposed Administrative Order on Consent (“Agreement”) concerning portions of the Fort Ord Superfund Site (“Site”) in Monterey, California has been negotiated by the United States Environmental Protection Agency (“EPA”), the California Department of Toxic Substances Control (“DTSC”) and the Fort Ord Reuse Authority (“Respondent”) subject to the final review and approval of the EPA, DTSC and the U.S. Department of Justice. The proposed Agreement concerns cleanup of portions of the Site pursuant to the Comprehensive Environmental Response, Compensation and Liability Act, 42 U.S.C. 9604, 9606 and 9622 (“CERCLA”). Pursuant to a Federal Facilities Agreement (“FFA”), the U.S. Army (“Army”) is required to perform the CERCLA response actions for the Site; however, the FFA will be amended to suspend the obligations of the Army to conduct those response actions that will be undertaken by the Respondent pursuant to the Agreement. The Army is preparing a Finding of Suitability for Early Transfer (“FOSET”), which will be submitted to EPA Region 9, and the State of California for their approval after a public comment period. Upon approval of the FOSET, the Army will transfer portions of the Site to the Respondent. The Army and the Respondent will enter into an Environmental Services Cooperative Agreement, which will require the Respondent to perform certain CERCLA response actions on the transferred portions of the Site, using grant monies from the Army. The proposed Agreement would require the Respondent to prepare and perform removal actions, one or more remedial investigations and feasibility studies and one or more remedial designs and remedial actions for certain contaminants present on the transferred portions of the Site, under the oversight of EPA and the State of California. The proposed Agreement includes EPA and DTSC covenants not to sue or to take administrative action against the Respondent, provided that the Respondent complies with all the terms and conditions of the Agreement. The Agreement also commits the Respondent to reimburse direct and indirect future response costs incurred by EPA and DTSC in connection with actions conducted under CERCLA at the transferred portions of the Site.

For thirty (30) calendar days following the date of publication of this notice, EPA will receive written comments relating to the proposed Agreement. EPA's response to any comments received will be available for public inspection at the U.S. Environmental Protection Agency, 75 Hawthorne Street, San Francisco, CA 94105.

DATES: Comments must be submitted on or before January 29, 2007.

ADDRESSES: The proposed Agreement may be obtained from Judith Winchell, Docket Clerk, telephone (415) 972-3124. Comments regarding the proposed Agreement should be addressed to Judith Winchell (SFD-7) at United States EPA Region IX, 75 Hawthorne Street, San Francisco, California 94105, and should reference “Former Fort Ord Superfund Site,” and “Docket No. R9-2007-03”.

FOR FURTHER INFORMATION CONTACT: Michele Benson, Assistant Regional Counsel (ORC-3), Office of Regional Counsel, U.S. EPA Region IX, 75 Hawthorne Street, San Francisco, CA 94105; E-mail: benson.michele@epa.gov; phone: (415) 972-3918.

Dated: December 20, 2006.
Keith Takata,
Director, Superfund Division, Region IX.

[FR Doc. E6-22430 Filed 12-28-06; 8:45 am]

BILLING CODE 6560-50-P